DEPARTMENT OF LABOR

Office of the Secretary

Agency Information Collection Activities; Submission for OMB Review; Comment Request; Delinquent Filer Voluntary Compliance Program

ACTION: Notice of availability; request for comments.

SUMMARY: The Department of Labor (DOL) is submitting this Employee Benefits Security Administration (EBSA)-sponsored information collection request (ICR) to the Office of Management and Budget (OMB) for review and approval in accordance with the Paperwork Reduction Act of 1995 (PRA). Public comments on the ICR are invited.

DATES: The OMB will consider all written comments that agency receives on or before February 16, 2021.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Mara Blumenthal by telephone at 202-693-8538 (this is not a toll-free number) or by email at DOL_PRA_PUBLIC@dol.gov.

SUPPLEMENTARY INFORMATION: Section 502(c)(2) of the Employee Retirement Income Security Act of 1974 (ERISA), authorizes the Secretary of Labor to assess civil penalties against plan administrators who fail or refuse to file complete and timely annual reports (Form 5500 Annual Return/Report of Employee Benefit Plan (OMB Control Number 1210-0110)) as required under section 101(b)(1) of ERISA and ERISA regulations codified in 29 CFR part 2520. Under the Delinquent Filer Voluntary Compliance Program (DFVC) Program, administrators otherwise subject to the assessment of higher civil penalties are permitted to pay reduced civil penalties for voluntarily complying with the annual reporting requirements under Title I of ERISA. This information collection requires providing data necessary to identify the plan along with the penalty payment. With respect to most pension plans and welfare plans, the requirement is satisfied by sending, along with the penalty payment, a copy of the delinquent annual report (without attachments or schedules) which is filed with the Department at a different address under the EFAST system. For additional substantive information about this ICR, see the related notice published in the Federal Register on October 20, 2020 (85 FR 66580).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-EBSA.

Title of Collection: Delinquent Filer Voluntary Compliance Program.

OMB Control Number: 1210-0089.

Affected Public: Private Sector— Businesses or other for-profits and not-for-profit institutions.

Total Estimated Number of Respondents: 10,350.

Total Estimated Number of Responses: 10,350.

Total Estimated Annual Time Burden: 518 hours.

Total Estimated Annual Other Costs Burden: $778,718.

Authority: 44 U.S.C. 3507(a)(1)(D).

Dated: January 8, 2021.
Mara Blumenthal,
Senior PRA Analyst.

[FR Doc. 2021-00696 Filed 1-13-21; 8:45 am]

BILLING CODE 4510-29-P